ENVIRONMENTAL PROTECTION AGENCY

40 CFR Part 300

[EPA-R4-SFUND-2011-0574: FRL-9463-8]

National Oil and Hazardous Substances Pollution Contingency Plan National Priorities List

AGENCY: Environmental Protection Agency.

ACTION: Withdrawal of direct final rule.

SUMMARY: On July 15, 2011, EPA published a Notice of Intent to Delete and a direct final Notice of Deletion for the Hipps Road Landfill from the National Priorities List. The EPA is withdrawing the Final Notice of Deletion due to an administrative error in processing the direct-final rule. The online Federal Document Management System (FDMS) did not include required documents including the State of Florida's concurrence letter and the Final Closeout Report as required. The FDMS will be updated to include these documents and the direct final rule will be reissued in the Federal Register.

DATES: Effective Date: This withdrawal of the direct final action (76 FR 41719) is effective as of September 13, 2011.

ADDRESSES: Information Repositories: Comprehensive information on the Site, as well as the comments that we received during the comment period, are available in docket EPA-R4-SFUND-2011-0574, accessed through the http://www.regulations.gov Web site. Although listed in the docket index, some information is not publicly available, e.g., CBI or other information whose disclosure is restricted by statue. Certain other material, such as copyrighted material, will be publicly available only in hard copy. Publicly available docket materials are available either electronically in http://www.regulations.gov or in hard copy at:

EPA Record Center, 61 Forsyth Street, SW., Atlanta, GA 30303. Hours: 8 a.m. to 4 p.m., Monday through Friday.

Jacksonville Public Library, 6886 103rd Street, Jacksonville, FL, 32210. Monday-Thursday: 10 a.m.-9 p.m., Friday & Saturday: 10 a.m.-6 p.m., Sunday: 1 p.m.-6 p.m.

FOR FURTHER INFORMATION CONTACT: Scott Miller, Remedial Project Manager, U.S. Environmental Protection Agency, Region 4, 61 Forsyth Street, SW., Atlanta, GA 30303, (404) 562-9120, e-mail: miller.scott@epa.gov.

SUPPLEMENTARY INFORMATION:

List of Subjects in 40 CFR Part 300

Environmental protection, Air pollution control, Chemicals, Hazardous Waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: August 30, 2011.
Gwendolyn Keyes Fleming,
Regional Administrator, Region 4.

Accordingly, the amendment to Table 1 of Appendix B to Part 300 to remove the entry “Hipps Road Landfill”, “Duval County” is withdrawn as of September 13, 2011.

[FR Doc. 2011-23519 Filed 9-12-11; 8:45 am]

BILLING CODE 6560-50-P